FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted December 1, 2011 Thru December 30, 2011
ET date | Trans. No. | ET reg. status | Party name
12/01/2011 | 20120158 | G | HMS Holdings Corp.; Redhills Ventures, LLC; HMS Holdings Corp.
| 20120209 | G | AMERIGROUP Corporation; Lutheran Medical Center; AMERIGROUP Corporation
| 20120214 | G | Quantum (Choctaw) Utility Investments I, LLC; GDF SUEZ S.A.; Quantum (Choctaw) Utility Investments I, LLC
| 20120215 | G | Riverstone/Carlyle Renewable & Alternative Energy Fund 11-C; Boralex Inc.; Riverstone/Carlyle Renewable & Alternative Energy Fund II-C
| 20120216 | G | High Liner Foods, Incorporated; Icelandic Group hf.; High Liner Foods, Incorporated
| 20120220 | G | TPG Partners VI, L.P.; Michael Cardone, Jr; TPG Partners VI, L.P.
| 20120224 | G | General Electric Company; Carlyle U.S. Growth Fund III, L.P.; General Electric Company
| 20120235 | G | Inergy, LP; Albion Mezzanine Fund II, LLC; Inergy, LP
12/02/2011 | 20120194 | G | Greeneden Topco S.C.A.; Alcatel Lucent; Greeneden Topco S.C.A.
| 20120225 | G | Marcelino dos Anjos Nascimento; Veolia Environment S.A.; Marcelino dos Anjos Nascimento
| 20120230 | G | News Corporation; Pan American Sports Partners Company; News Corporation
| 20120231 | G | T. Boone Pickens; Clean Energy Fuels Corp.; T. Boone Pickens
| 20120238 | G | Enterprise Products Partners L.P.; Enbridge, Inc.; Enterprise Products Partners L.P.
| 20120239 | G | Lynn Tilton; Hussey Copper Ltd.; Lynn Tilton
| 20120241 | G | Enbridge Inc.; ConocoPhillips; Enbridge Inc.
| 20120242 | G | Cerberus Institutional Partners, L.P; GlaxoSmithKline plc; Cerberus Institutional Partners, L.P.
| 20120245 | Y | MidOcean Partners III, L.P.; BB&T Corporation; MidOcean Partners III, L.P.
| 20120246 | G | AEA Investors Small Business Fund II; LLR Equity Partners II, L.P.; AEA Investors Small Business Fund
| 20120247 | G | JLL Partners Fund VI, L.P.; American Dental Partners, Inc.; JLL Partners Fund VI, L.P.
| 20120248 | G | New Enterprise Associates 13, L.P.; Fisker Automotive Holdings, Inc.; New Enterprise Associates 13, L.P.
| 20120249 | G | Kleiner Perkins Caufield & Byers XIII, LLC; Fisker Automotive Holdings, Inc.; Kleiner Perkins Caufield & Byers XIII, LLC
| 20120250 | G | Kleiner Perkins Caufield & Byers XII, LLC; Fisker Automotive Holdings, Inc.; Kleiner Perkins Caufield & Byers XII, LLC
| 20120251 | G | The Resolute Fund II, L.P.; H.I.G. Capital Partners IV, L.P.; The Resolute Fund II, L.P.
| 20120254 | G | Richard D. Kinder; Kinder Morgan, Inc.; Richard D. Kinder
| 20120255 | G | FS Equity Partners VI, L.P.; Marwit Capital Partners II, LP; FS Equity Partners VI, L.P.
| 20120260 | G | The Weir Group PLC; Industrial Growth Partners III, L.P.; The Weir Group PLC
12/05/2011 | 20120152 | G | Coventry Health Care, Inc.; Children's Mercy's Family Health Partners, Inc.; Coventry Health Care, Inc.
| 20120160 | G | United Technologies Corporation; Rolls-Royce plc; United Technologies Corporation
| 20120178 | G | JP Morgan Chase & Co.; Wright Medical Group, Inc.; JP Morgan Chase & Co.
12/06/2011 | 20111253 | G | Hellman & Friedman Capital Partners VI, L.P.; SunGard Capital Corp.; Hellman & Friedman Capital Partners VI, L.P.
| 20120164 | G | TransDigm Group Incorporated; Harco Laboratories, Inc.; TransDigm Group Incorporated
| 20120285 | G | American Industrial Partners Capital Fund IV, L.P.; Dover Corporation; American Industrial Partners Capital Fund IV, L.P.
12/07/2011 | 20120191 | G | WMB Holdings, Inc.; Warburg Pincus Private Equity IX, L.P.; WMB Holdings, Inc.
| 20120226 | G | Titan Private Holdings I, LLC; Tekelec; Titan Private Holdings I, LLC
| 20120268 | G | Francois Pinault; Brioni S.p.A.; Francois Pinault
| 20120275 | G | Plains All American Pipeline, L.P.; Western Refining, Inc.; Plains All American Pipeline, L.P.
12/08/2011 | 20110767 | G | Laboratory Corporation of America Holdings; Orchid Cellmark, Inc.; Laboratory Corporation of America Holdings
| 20120222 | G | SCP III MV One, L.P.; MOSAID Technologies Incorporated; SCP III MV One, L.P.
12/09/2011 | 20111224 | G | Valeant Pharmaceuticals International, Inc.; Johnson & Johnson; Valeant Pharmaceuticals International, Inc.
| 20111225 | G | Valeant Pharmaceuticals International, Inc.; Sanofi; Valeant Pharmaceuticals International, Inc.
| 20120253 | G | METLIFE, Inc.; MEMC Electronic Materials, Inc.; METLIFE, Inc.
| 20120259 | G | Snow Phipps II AIV, L.P.; Gary D. and Marcia Nelson; Snow Phipps II MV, L.P.
| 20120263 | G | WPP plc; The Glover Park Group Holdings, LLC; WPP plc
| 20120266 | G | FS Equity Partners VI, L.P.; First Watch Restaurants, Inc.; FS Equity Partners VI, L.P.
| 20120287 | G | Sterling Group Partners III, L.P.; E.I. du Pont de Nemours and Company; Sterling Group Partners III, L.P.
| 20120288 | G | Automatic Data Processing, Inc.; David Blundin; Automatic Data Processing, Inc.
| 20120289 | G | Harvest Partners VI, L.P.; Equity Investor Acquisition LLC; Harvest Partners VI, L.P.
| 20120291 | G | West Corporation; HyperCube LLC; West Corporation
| 20120292 | G | CARTERA GESTAMP, S.L.; Morgan Stanley; CARTERA GESTAMP, S.L.
| 20120294 | G | Bain Capital Fund X, L.P.; Medtronic, Inc.; Bain Capital Fund X, L.P.
| 20120296 | G | Ares Corporate Opportunities Fund III, L.P.; Potomac Fusion, Inc.; Ares Corporate Opportunities Fund III, L.P.
12/12/2011 | 20120067 | G | Iochpe-Maxion S.A.; Hayes Lemmerz International, Inc.; lochpe-Maxion S.A.
| 20120269 | G | Helen of Troy Limited; The Procter & Gamble Company; Helen of Troy Limited
| 20120282 | G | Citigroup Inc.; KHOF Holdings, Inc.; Citigroup Inc.
| 20120295 | G | Shahid Rafig Khan; Jacksonville Jaguars, Ltd.; Shahid Rang Khan
| 20120298 | G | Brazos Equity Fund III, L.P.; FS Equity Partners V. L.P.; Brazos Equity Fund III, L.P.
| 20120299 | G | Global Partners LP; AE Holdings Corp.; Global Partners LP
| 20120302 | G | EnCap Energy Infrastructure Fund, L.P.; Harold G. Hamm; EnCap Energy Infrastructure Fund, L.P.
12/14/2011 | 20120233 | G | TPG-Axon Partners, LP; Equinix, Inc.; TPG-Axon Partners, LP
12/15/2011 | 20120234 | G | TPG-Axon Partners (Offshore), Ltd.; Equinix, Inc.; TPG-Axon Partners (Offshore), Ltd.
| 20120229 | G | American Securities Partners V. L.P.; INX Inc.; American Securities Partners V, L.P.
| 20120267 | G | General Dynamics Corporation; Force Protection Inc.; General Dynamics Corporation
12/16/2011 | 20120276 | G | Windy City Investments Holdings, LLC; Gresham Asset Management LLC; Windy City Investments Holdings, LLC
| 20120277 | G | Windy City Investments Holdings, LLC; Gresham Investment Management LLC; Windy City Investments Holdings, LLC
| 20120303 | G | Jeffrey A. Honickman; Terrence J. McGlinn, Sr.; Jeffrey A. Honickman
| 20120304 | G | Dominic Origlio, Jr.; Terrence J. McGlinn, Sr.; Dominic Origlio, Jr.
| 20120305 | G | Wells Fargo & Company; MC Gro, LLC; Wells Fargo & Company
| 20120308 | G | Leucadia National Corporation; U.S. Premium Beef, LLC; Leucadia National Corporation
| 20120309 | G | Romano Volta and Lucia Fantini; Danaher Corporation; Romano Volta and Lucia Fantini
| 20120311 | G | W.M. Barr & Company, Inc.; Microban International, Ltd.; W.M. Barr & Company, Inc.
| 20120314 | G | Harbinger Group Inc.; HKW Capital Partners III, L.P.; Harbinger Group Inc.
| 20120315 | G | Mason Wells Buyout Fund III, LP; Ronald and Joan Beeman; Mason Wells Buyout Fund III, LP
| 20120316 | G | Genstar Capital Partners V, L.P.; Goldman Sachs Group, Inc.; Genstar Capital Partners V. L.P.
| 20120318 | G | Keyera Corp.; Chevron Corporation; Keyera Corp.
| 20120319 | G | Keyera Corp.; Neste Oil Corporation; Keyera Corp.
| 20120320 | G | Markel Corporation; Gregory S. Thompson; Markel Corporation
| 20120326 | G | Alleghany Corporation; Transatlantic Holdings, Inc.; Alleghany Corporation
| 20120327 | G | NICE-Systems Ltd.; Merced Systems, Inc.; NICE-Systems Ltd.
12/19/2011 | 20120335 | G | Siemens Aktiengesellschaft; eMeter Corporation; Siemens Aktiengesellschaft
12/20/2011 | 20120252 | G | KKR Samson Investors L.P.; Stacy Schusterman; KKR Samson Investors L.P.
| 20120256 | G | CareGroup, Inc.; Milton Hospital Foundation, Inc.; CareGroup, Inc.
| 20120331 | G | CHS Private Equity V LP; Royall & Company Holding, Inc.; CHS Private Equity V LP
12/22/2011 | 20120307 | G | Raytheon Company; Henggeler Computer Consultants, Inc.; Raytheon Company
| 20120317 | G | Adobe Systems Incorporated; Efficient Frontier, Inc.; Adobe Systems Incorporated
| 20120324 | G | Francisco Partners III (Cayman), LP.; American Industrial Capital Fund IV, LP; Francisco Partners III (Cayman), L.P.
12/23/2011 | 20120261 | G | The Williams Companies, Inc.; ASP V Alternative Investments, L.P.; The Williams Companies, Inc.
| 20120301 | G | UnitedHealth Group Incorporated; MatlinPatterson Global Opportunities Partners III L.P.; UnitedHealth Group Incorporated
| 20120321 | G | Toyota Tsusho Corporation; Tokyo Electric Power Company; Toyota Tsusho Corporation
| 20120328 | G | SAP AG; SuccessFactors, Inc.; SAP AG
| 20120330 | G | KKR 2006 Fund (Overseas), Limited Partnership; Redwing LP; KKR 2006 Fund (Overseas), Limited Partnership
| 20120333 | G | TPG Partners V, LP.; Kirin Holdings Company, Limited; TPG Partners V, L.P.
| 20120336 | G | Court Square Capital Partners II, L.P.; The 2001 Wasserstein Family Trust; Court Square Capital Partners H, L.P.
| 20120344 | G | FREI Bravo MV, L.P.; ArcLight Energy Partners Fund IV, L.P.; FREI Bravo MV, L.P.
| 20120345 | G | FREI Bravo MV, L.P.; ArcLight Energy Partners Fund III; FREI Bravo MV, L.P.
| 20120347 | G | Starr International Company, Inc.; Starr Insurance Group, Inc.; Starr International Company, Inc.
| 20120350 | G | KGHM Polska Miedz S.A.; Quadra FNX Mining Ltd.; KGHM Polska Miedz S.A.
| 20120353 | G | Greenbriar Equity Fund II, L.P.; KRG Capital Fund III, L.P.; Greenbriar Equity Fund II, L.P.
| 20120356 | G | Epiq Systems, Inc.; De Novo Legal LLC; Epiq Systems, Inc.
| 20120359 | G | Brazos Equity Fund III, L.P.; Global Private Equity IV Limited Partnership; Brazos Equity Fund III, L.P.
12/27/2011 | 20120343 | G | AGS Topco Holdings, LP; Advantage Waypoint LLC; AGS Topco Holdings, LP
12/28/2011 | 20120340 | G | Partners Limited; Terra-Gen Power Holdings, LLC; Partners Limited
12/29/2011 | 20120349 | G | Brown & Brown, Inc.; Spectrum Equity Investors V. L.P.; Brown & Brown, Inc.
12/30/2011 | 20120337 | G | Western Gas Partners, LP; Anadarko Petroleum Corporation; Western Gas Partners, LP

FOR FURTHER INFORMATION CONTACT: Renee Chapman, Contact Representative, or Theresa Kingsberry, Legal Assistant, Federal Trade Commission, Premerger Notification Office, Bureau of Competition, Room H-303, Washington, DC 20580, (202) 326-3100.

By Direction of the Commission.
Donald S. Clark,
Secretary.

[FR Doc. 2012-231 Filed 1-10-12; 8:45 am]

BILLING CODE 6750-01-M